SECURITIES AND EXCHANGE COMMISSION

[Release No. 34-44739A; File No. SR-ISE-00-22]

Self-Regulatory Organizations; International Securities Exchange LLC; Order Approving Proposed Rule Change and Notice of Filing and Order Granting Accelerated Approval of Amendments Nos. 1 and 2 to the Proposed Rule Change Relating to Market Maker Financial Requirements; Correction

August 30, 2001.

In Release No. 34-44739, issued on August 22, 2001 (FR Document 01-21739 beginning on page 45713 for Wednesday, August 29, 2001), the conclusion inadvertently referred to the proposed rule change as SR-NYSE-00-22. The conclusion should read that the proposed rule change (SR-ISE-00-22), as amended, is approved.

For the Commission, by the Division of Market Regulation, pursuant to delegated authority.¹
¹ 17 CFR 200.30-3(a)(12).
Margaret H. McFarland,
Deputy Secretary.

[FR Doc. 01-22513 Filed 9-6-01; 8:45 am]

BILLING CODE 8010-01-M